DEPARTMENT OF THE INTERIOR

National Park Service

36 CFR Part 7

RIN 1024-AD53

Special Regulations; Areas of the National Park System

AGENCY: National Park Service, Interior

ACTION: Proposed rule.

SUMMARY: The National Park Service is proposing this rule to provide for the protection of the Western Snowy Plover (Charadrius alexandrinus nivosus), a species listed as threatened under the Endangered Species Act. Western Snowy Plovers overwinter within Golden Gate National Recreation Area (GGNRA) at both Crissy Field and Ocean Beach. This rulemaking will provide temporary protection for two areas until a permanent determination is made through the planning process for the entire park. The park is developing a Dog Management Plan/Environmental Impact Statement (EIS) and special regulations for dog management at GGNRA is expected to be completed by winter 2009.

DATES: Comments must be received by January 22, 2008.

ADDRESSES: You may submit comments, identified by the number RIN 1024-AD53, by any of the following methods:

—Federal rulemaking portal: http://www.regulations.gov. Follow the instructions for submitting comments.

—Mail or hand delivery to Superintendent, Golden Gate National Recreation Area, Fort Mason, Building 201, San Francisco, CA 94123. Attention: Snowy Plover Protection Rule.

FOR FURTHER INFORMATION CONTACT: Brian O'Neill, General Superintendent, Golden Gate National Recreation Area, Fort Mason, Building 201, San Francisco, CA 94123. (415) 561-4728.

SUPPLEMENTARY INFORMATION:

Background

In November 2006 and July 2007, Golden Gate National Recreation Area (GGNRA) adopted emergency regulatory provisions under 36 CFR 1.5, requiring all dogs to be on-leash on a portion of Crissy Field designated as the Wildlife Protection Area (WPA) and on a portion of Ocean Beach designated as the Snowy Plover Protection Area (SPPA). The emergency restrictions in these two areas were established for the protection of the federally listed Western Snowy Plover. These emergency restrictions are temporary and necessary until the completion of this rulemaking.

The Western Snowy Plover was listed as a threatened species under the Endangered Species Act (“Act”) in 1993. The plover's listing was due, in part, to significant declines in population numbers and distribution attributed to habitat loss and increased predation resulting from human disturbance and development. Among other things, the plover's threatened status affords it protection from harassment. The regulations that implement the Act define “harass” as “an intentional or negligent act or omission which creates the likelihood of injury to wildlife by annoying it to such an extent as to significantly disrupt normal behavior patterns which include, but are not limited to, breeding, feeding, or sheltering.”

Snowy Plovers weigh less than two ounces and because of their small size, cryptic habits, and coloration, are hard to see with the untrained eye. Plovers feed on invertebrates found in the wet sand, amongst surf-cast kelp and debris within the intertidal zone, and in dry sandy areas or amidst low foredune vegetation above the high tide line. When resting, Snowy Plovers usually take shelter in footprints, vehicle tracks, or the lee of kelp, driftwood or sparsely vegetated low foredunes on the widest areas of beaches. Snowy Plovers are particular in their habitat choices; they need to rest and feed on wide, flat, open beaches where they can see potential predators approaching. These conditions are found at Crissy Field and Ocean Beach. Snowy plovers do not nest in the park; they overwinter in the park from approximately July through April. During the overwintering period, Snowy Plovers rest and feed to gather reserves necessary to successfully breed at other more suitable nesting locations up and down the Pacific coast.

Snowy Plovers continue to be threatened by degradation and loss of breeding and wintering habitat caused by expanding beach-front development, encroachment of introduced European beachgrass (Ammophila arenaria), and intense recreational use of beaches. Poor reproductive success is frequently the result of human disturbance, predation, or inclement weather, These factors, combined with habitat loss, led to the overall decline in active nesting colonies and breeding and wintering populations along the Pacific coast, and prompted its federal listing as a threatened species in 1993.

Snowy Plover monitoring data from the 2006-2007 overwintering season was analyzed by the NPS and compiled in an addendum to the November 2006 report, (“Addendum: 2006 Plover Monitoring”, dated June 29, 2007). Data from 2006-2007 overwintering season confirmed that even though the emergency restrictions reduced the numbers of off leash dogs, there were still high numbers of off leash dogs and dogs chasing shorebirds during the 2006-2007 overwintering season constituting an ongoing threat to Western Snowy Plovers. Increased enforcement of the restrictions during the 2007-2008 season would help to reduce this threat.

Description of the Golden Gate National Recreation Area

GGNRA was established in 1972. The lands that constitute GGNRA extend north of the Golden Gate Bridge (the entrance to the San Francisco and San Pablo Bays) to Tomales Bay in Marin County, and south to the San Francisco watersheds and beyond in San Mateo County. The park's legislated boundary encompasses nearly 80,000 acres of land and water, including 59 miles of bay and ocean shoreline. The GGNRA directly manages approximately 16,000 acres in Marin, San Francisco and San Mateo counties. These lands represent one of the nation's largest coastal preserves and attract 16 million visitors each year, making GGNRA one of the most heavily visited units in the National Park System.

The lands encompassing GGNRA provide important habitat for many federally threatened or endangered species, as well as many other State listed and rare species. The central coast, including the San Francisco Bay Area and GGNRA, is considered one of North America's biodiversity hot spots (Precious Heritage: the Status of Biodiversity in the United States, Nature Conservancy). The California Floristic Province, which includes all of GGNRA, is identified as one of the top 25 global biodiversity hotspots in the world (Nature's Place: Population and the Future of Diversity, 2000 Report by Population Action International). GGNRA is part of the Golden Gate Biosphere Reserve, designated in 1989 in recognition of the importance of this coastal and marine ecosystem to the conservation of biodiversity, sustainable development, research and education.

Purposes of Golden Gate National Recreation Area

GGNRA was created from a vision to promote the enjoyment of the natural and cultural resources on the edge of urban San Francisco Bay Area communities while preserving those resources for the future. The vast natural resources that existed in the bay estuary and its environs before 1800 had, by the 1960s, been reduced to minute remnants, some of which were protected in a handful of national, state and local parks and open space. Congress recognized that the lands, now included within GGNRA, presented a unique opportunity to preserve some of the last remnants of once abundant flora and fauna.

The 1972 legislation that established GGNRA, Public Law 92-589, set forth the park's mission as follows:

In order to preserve for public use and enjoyment certain areas of Marin and San Francisco Counties, California, possessing outstanding natural, historic, scenic, and recreational values, and in order to provide for the maintenance of needed recreational open space necessary to urban environment and planning, the Golden Gate National Recreation Area (hereinafter referred to as the “recreation area”) is hereby established. In the management of the recreation area, the Secretary of Interior (hereinafter referred to as the “Secretary”) shall utilize the resources in a manner which will provide for recreation and educational opportunities consistent with sound principles of land use planning and management. In carrying out the provisions of this Act, the Secretary shall preserve the recreation area, as far as possible, in its natural setting, and protect it from development and uses which would destroy the scenic beauty and natural character of the area.

In addition, the 1972 legislation required GGNRA to manage the park in accordance with the National Park Service Organic Act of 1916 (Organic Act) (16 U.S.C. Section 1 et seq.) The Organic Act requires the National Park Service to:

Promote and regulate the use of the federal areas known as national parks, monuments, and reservations hereinafter specified * * * by such means and measures as conform to the fundamental purpose of the said parks, monuments, and reservations, which purpose is to conserve the scenery and the natural and historic objects and the wild life therein and to provide for the enjoyment of the same in such manner and by such means as will leave them unimpaired for the enjoyment of future generations.

The National Park Service has promulgated policies that amplify the meaning of the Organic Act. These policies, referred to as the 2006 Management Policies, provide mandatory guidance for all national parks. With regard to the protection of threatened and endangered species, the 2006 Management Policies require the NPS to “fully meet its obligations under the NPS Organic Act and the Endangered Species Act to both proactively conserve listed species and prevent detrimental effects on these species.” One of the means to achieve these goals is the management of detrimental visitor use that may be negatively affecting listed species (2006 Management Policies 4.4.2.3).

Authority and Jurisdiction

Under the Organic Act, Congress granted the NPS broad authority to regulate the use of the federal areas known as national parks. In addition, the Organic Act authorizes the NPS, through the Secretary of the Interior, to “make and publish such rules and regulations as he may deem necessary or proper for the use and management of the parks * * *.” (16 U.S.C. 3).

16 U.S.C. 1a-1 states, “The authorization of activities shall be conducted in light of the high public value and integrity of the National Park System and shall not be exercised in derogation of the values and purposes for which these various areas have been established * * *.”

The NPS's regulatory authority over waters subject to the jurisdiction of the United States, including navigable waters, is based upon the Property Clause and, as with the United States Coast Guard's authority, Commerce Clause of the U.S. Constitution. In regard to the NPS, Congress in 1976 directed the NPS to “promulgate and enforce regulations concerning boating and other activities on or relating to waters within areas of the National Park System, including waters subject to the jurisdiction of the United States * * *.” (16 U.S.C. 1a-2(h)).

In 1996, the NPS published a final rule (61 FR 35136 (July 5, 1996)) amending 36 CFR 1.2(a)(3) to clarify its authority to regulate activities within National Park System boundaries occurring on waters and tidelands subject to the jurisdiction of the United States.

Through the authority stated above, the NPS exercises legal jurisdiction over NPS waters offshore Ocean Beach and Crissy Field. The park's legislated boundary includes all waters to ¼ mile (1,320 feet) offshore at Ocean Beach and Crissy Field. In addition, the NPS has a lease with the State of California-State Lands Commission which provides NPS with the authority to manage tide and submerged lands to 1,000 feet offshore. The United States' jurisdiction over offshore areas at Crissy Field is further augmented by the fact that the United States holds title to the tide and submerged lands at Crissy Field extending 300 yards below low water.

Regulation of Dog Walking at Crissy Field and Ocean Beach

Dogs, including off-leash dogs, have been present on Ocean Beach and Crissy Field for many years. From approximately 1979 to the late 1990s, GGNRA allowed dogs to be off-leash in certain areas of the park under “voice control.” In all other areas of the park and the national park system, dogs were required to be leashed in accordance with the general regulation found at 36 CFR 2.15(a) or they were excluded altogether.

In 2002, GGNRA required dogs to be on-leash throughout all areas of the park where dogs were allowed. This leash requirement was enforced for several years until it was challenged in federal court in 2004.

The legal action resulted in a magistrate's ruling in 2004 that was then affirmed by the U.S. District Court for the Northern District of California in June, 2005. That ruling found that GGNRA had not followed the proper procedures in adopting the 2002 leash requirement, and required GGNRA to reinstate “voice control” for dogs in those areas of the park where it had been allowed in the past. (U.S. v. Barley, CR-04-0408-WHA (N.D. Cal. 2005)). As a result of this ruling, off-leash, “voice-control” dog walking was reinstated in a number of locations, including Crissy Field and Ocean Beach. The ruling, however, did not restrict GGNRA's authority to protect park resources, including threatened and endangered species.

For more than 100 years, Crissy Field was part of the U.S. Army base at the Presidio. Crissy Field was used as an Army maintenance and operational area and numerous buildings and facilities lined the shore. The U.S. Army transferred complete administrative jurisdiction over Crissy Field to the National Park Service in 1993. Between 1998 and 2000, GGNRA restored a 100-acre portion of Crissy Field according to plans developed and analyzed through the Crissy Field Plan Environmental Assessment (EA) (Jones and Stokes 1996) and Finding of No Significant Impact (FONSI). The transformation of Crissy Field included restoration of coastal dunes, removal of rubble on the beach, development of new trails and a restored airfield, and construction of a 20-acre tidal marsh. The Crissy Field Plan EA/FONSI addressed dog walking and recommended designating areas for off-leash dog walking, for on-leash dog walking, and a portion of Crissy Field (the tidal marsh, the overlooks on the boardwalk crossing the marsh, and the fenced dune areas) would be closed to dogs. The dog restrictions from the EA/FONSI were adopted by the Superintendent and included in the GGNRA compendium starting in 2000.

Ocean Beach is the longest stretch of sandy beach between Point Reyes National Seashore and Half Moon Bay. The federally threatened Snowy Plover resides on portions of the beach for 10 months of the year. The draft Snowy Plover Management Plan (GGNRA 1998) recommended that dogs be on-leash in what was referred to as a Snowy Plover Protection Area (SPPA), extending from Stairwell 21 to Sloat Boulevard on Ocean Beach. From 1997 until December 2004, dogs were required to be leashed within the Ocean Beach SPPA, and the requirement was included in the GGNRA compendium.

Snowy Plover Monitoring

Western Snow Plovers have over-wintered on Ocean Beach since at least as far back as the 1980s, and sightings have occurred on Crissy Field since the winter of 2002. GGNRA has regularly monitored Snowy Plovers at Ocean Beach since 1994 and began formal monitoring of Snowy Plovers at Crissy Field in February 2005.

Data accumulated by GGNRA regarding the effects of dogs on Snowy Plovers is presented in the 2006 Status Report: Western Snowy Plovers—Recent Changes in Human and Dog Use within the Snowy Plover Protection Area at Ocean Beach and the Wildlife Protection Area at Crissy Field (“Report”). In the report, monitoring data from the Ocean Beach SPPA and the Crissy Field WPA documents recent increases in the number of off-leash dogs using these areas. Along with this increase in the number of off-leash dogs, there has been an increase in the number of instances of dogs chasing or flushing Western Snowy Plovers or other shorebirds. In February and March of 2006, dogs were observed chasing or flushing Western Snowy Plovers on four occasions, disturbing a total of 22 plovers, in the Ocean Beach SPPA. In the Crissy Field WPA, dogs were observed chasing or flushing more than 6 plovers over the course of four surveys in July and August of 2006.

The report also describes the adverse biological effects plovers experience when flushed or chased and concluded that these effects present a serious threat to the Western Snowy Plover.

Emergency Regulatory Provisions Adopted in 2006

In response to the monitoring findings that off-leash dog walking at Ocean Beach and Crissy Field was harassing and disturbing snowy plovers and that this activity presented a serious threat to the GGNRA's overwintering snowy plover population, the GGNRA Superintendent implemented emergency restrictions requiring visitors to leash their dogs in the designated areas of Ocean Beach and Crissy Field during the 2006-2007 overwintering season and re-implemented on July 1, 2007, for the 2007-2008 overwintering season. The emergency restrictions provided as follows:

• Ocean Beach: Dog-walking restricted to on-leash only at Ocean Beach, Stairwell 21 to Sloat Boulevard, including all tidelands. The definition of on-leash use requires that dogs must be restrained on a leash which shall not exceed six feet in length.

• Crissy Field: Dog-walking restricted to on-leash only in the Crissy Field Wildlife Protection Area which encompasses: From the west, starting at Fort Point Mine Depot (a.k.a. Torpedo Wharf) eastward to concrete riprap, which lies approximately 700 feet east of former Coast Guard Station, and includes all uplands and all tidelands and extends from the high-water mark to 100 yards off shore.

The emergency provisions would remain in effect until the end of the overwintering period, as determined through monitoring. The emergency provisions did not eliminate the opportunity for off-leash dog walking at Ocean Beach and Crissy Field outside of the designated Snowy Plover protection areas. At Crissy Field, dog walking options on the beach provide .99 miles of dog walking off-leash and .32 miles of dog walking on-leash, in addition to off-leash dog walking availability on the Crissy Field airfield and promenade. At Ocean Beach and the beach at Fort Funston, which lies just to the south of Ocean Beach, visitors have access to 2.4 miles of beach area for off-leash dog walking and 2.2 miles for on-leash dog walking.

Need for Action

The emergency regulatory provisions implemented by GGNRA in 2006 and 2007 are temporary. This rulemaking is needed to provide an interim solution developed with public participation for protecting the populations of Western Snowy Plovers that overwinter on Crissy Field and Ocean Beach until the negotiated rulemaking process is completed and a comprehensive special regulation for dog walking at GGNRA is adopted.

This proposed regulation would require dogs to be on a leash, not exceeding six feet in length, within the land and water areas designated as the Crissy Field WPA and the Ocean Beach SPPA. These areas will be included in the Superintendent's Compendium and will be published through the posting of signs and the availability of maps on the park's official Web site and other places convenient to the public. This activity restriction will be in effect annually, July 1 through approximately May 1, or until monitoring determines that the species is no longer present.

The proposed rule will only prohibit the activity of off-leash dog walking in these two areas, and the effects are offset by the availability of other areas nearby the Crissy Field WPA and the Ocean Beach SPPA for off-leash dog walking. Park visitors with dogs will still be allowed to use the Crissy Field WPA and the Ocean Beach SPPA provided that their dogs are leashed. This on-leash requirement will be a beneficial effect to visitors who come to this area to observe snowy plovers and a necessary measure for the protection and enhancement of the snowy plovers and their habitat.

The proposed rule will not adversely affect GGNRA's natural, scenic, or cultural resources. In particular, the regulation will enhance GGNRA's ability to protect the Snowy Plover by decreasing the disturbances caused by dogs. Protection of threatened species is consistent with the 2006 Management Policies. Protection of threatened species is in keeping with the objectives of the Crissy Field Plan EA/FONSI, and the draft Snowy Plover Management Plan, which called for a leash requirement in the Snowy Plover Protection Area. Finally, the proposed rule is consistent with the general regulation at 36 CFR 2.15(a), which requires dogs to be on-leash in national park units.

Compliance With Other Laws and Executive Orders

Regulatory Planning and Review (Executive Order 12866)

This document is not a significant rule and is not subject to review by the Office of Management and Budget under Executive Order 12866.

(1) This rule will not have an effect of $100 million or more on the economy. It will not adversely affect in a material way the economy, productivity, competition, jobs, the environment, public health or safety, or state, local, or tribal governments or communities. Most of the areas proposed to be restricted through this rulemaking have been closed or restricted for the same activity through the park's compendium in the past, although those closures or restrictions were not published in the Federal Register. Since this is not a new closure or restriction, and because opportunities for off-leash dogwalking still exist in these areas, the proposed rule will not significantly affect the existing patterns of park users.

(2) This rule will not create a serious inconsistency or otherwise interfere with an action taken or planned by another agency. GGNRA has received letters of concurrence for the emergency restrictions in these areas, and has begun informal concurrence with U.S. Fish and Wildlife Service. This rule does not alter the budgetary effects of entitlements, grants, user fees, or loan programs or the rights or obligations of their recipients.

(3) This rule does not raise novel legal or policy issues.

Regulatory Flexibility Act

The Department of the Interior certifies that this document will not have a significant economic effect on a substantial number of small entities under the Regulatory Flexibility Act (5 U.S.C. 601 et seq.). The economic effects of this rule are local in nature and negligible in scope. The primary purpose of this rule is to provide protection for a threatened species. The rule will require dogwalkers to leash their dogs when in specified areas. There will be no economic effect of this additional required action.

Small Business Regulatory Enforcement Fairness Act (SBREFA)

This rule is not a major rule under 5 U.S.C. 804(2), the Small Business Regulatory Enforcement Fairness Act. This rule:

a. Does not have an annual effect on the economy of $100 million or more. This rule will only affect those who choose to walk their dogs in two designated areas.

b. Will not cause a major increase in costs or prices for consumers, individual industries, federal, state, or local government agencies, or geographic regions. There will be no costs associated with the requirement to leash dogs in these two designated areas.

c. Does not have significant adverse effects on competition, employment, investment, productivity, innovation, or the ability of U.S.-based enterprises to compete with foreign-based enterprises. The primary purpose of this regulation is to provide additional protection for a threatened species and this rule will not change the ability of United States based enterprises to compete in any way.

Unfunded Mandates Reform Act

This rule does not impose an unfunded mandate on State, local, or tribal governments or the private sector of more than $100 million per year. The rule does not have a significant or unique effect on State, local or tribal governments or the private sector. The restrictions under this regulation would not have a significant effect or impose an unfunded mandate on any agency or on the private sector. This rule applies only to Federal parkland administered by the National Park Service in GGNRA, and no costs will be incurred by any parties.

Takings (Executive Order 12630)

In accordance with Executive Order 12630, the rule does not have significant takings implications. This rule does not apply to private property, or cause a compensable taking, there are no takings implications.

Federalism (Executive Order 13132)

In accordance with Executive Order 13132, the rule does not have sufficient federalism implications to warrant the preparation of a Federalism Assessment. This regulation will not have a substantial direct effect on the states, or on the distribution of power and responsibilities among the various levels of government. The rule addresses dog walking in two areas of the Golden Gate National Recreation Area. The affected lands are under the administrative jurisdiction of the National Park Service.

Civil Justice Reform (Executive Order 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB form 83-I is not required.

National Environmental Policy Act

The Handbook for NPS Director's Order 12 contains a listing of Categorical Exclusions. Section 3.4 D(2) of the Director's Order 12 Handbook provides that “minor changes in programs and regulations pertaining to visitor activities” may be categorically excluded under NEPA. The proposed regulations for Ocean Beach and Crissy Field are actions that would result in minor changes to regulated visitor activities in these areas (transitioning seasonally from unleashed to leashed dog recreation). GGNRA has prepared all the appropriate Categorical Exclusion screening forms. These forms disclose that the adoption of these regulations would result in no measurable adverse environmental effects. Furthermore, no exceptional circumstances or conditions exist that would make use of a Categorical Exclusion inappropriate. As such, a Categorical Exclusion under NEPA is the appropriate form of NEPA compliance for these regulatory actions.

Government-to-Government Relationship With Tribes

In accordance with the President's memorandum of April 29, 1994, “Government to Government Relations with Native American Tribal Governments” (59 FR 22951) and 512 DM 2, we have evaluated potential effects on federally recognized Indian tribes and have determined that there are no potential effects.

Clarity of Rule

We are required by Executive Orders 12866 and 12988 and by the Presidential Memorandum of June 1, 1998, to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in the ADDRESSES section. To better help us revise the rule, your comments should be as specific as possible. For example, you should tell us the numbers of the sections or paragraphs that are unclearly written, which sections or sentences are too long, the sections where you feel lists or tables would be useful, etc.

Drafting Information: The primary authors of this proposed rule are Marybeth G. McFarland, Law Enforcement Specialist; Christine Powell, Public Affairs Specialist; Shirwin Smith, Management Assistant; GOGA; Barbara Goodyear, Solicitor, PWRO; Jerry Case, Regulations Program Manager; and Mike Tiernan, Solicitor, WASO.

Public Participation: You may submit comments online at: http://www.regulations.gov. Follow the instructions for submitting comments. You may also mail or hand deliver comments to: Superintendent, Golden Gate National Recreation Area, Fort Mason, Building 201, San Francisco, California 94123, Attn: Snowy Plover Protection Rule.

Public Availability of Comments

Before including your address, phone number, e-mail address, or other personal identifying information in your comment, you should be aware that your entire comment—including your personal identifying information—may be made publicly available at any time. While you can ask us in your comment to withhold your personal identifying information from public review, we cannot guarantee that we will be able to do so.

List of Subjects in 36 CFR Part 7

National Parks, Reporting and recordkeeping requirements.

For the reasons stated in the preamble, the National Park Service proposes to amend 36 CFR part 7 as follows:

PART 7—SPECIAL REGULATIONS, AREAS OF THE NATIONAL PARK SYSTEM

1. The authority for part 7 continues to read as follows:

Authority: 16 U.S.C. 1, 3, 9a, 460(q), 462(k); Sec. 7.96 also issued under D.C. Code 8-137 (1981) and D.C. Code 40-721 (1981).

2. Add new paragraph (d) to § 7.97 to read as follows:

§ 7.97 Golden Gate National Recreation Area

* * * * *

(d) Dogs—Crissy Field and Ocean Beach Snowy Plover Areas (1) Dogs must be restrained on a leash not to exceed six feet in length during the Snowy Plover (Charadrius alexandrinus nivosus) overwintering season in the following areas:

(i) Crissy Field Wildlife Protection Area (WPA): Dogwalking restricted to on-leash only in the areas which encompass the shoreline and beach area north of the Crissy Field Promenade (excluding the paved parking area, sidewalks and grass lawn encompassing the Coast Guard Station complex) east of the Fort Point Mine Depot (a.k.a. Torpedo Wharf) to approximately 700 feet east of the former Coast Guard Station, and all tidelands and submerged lands to 100 yards offshore.

(ii) Ocean Beach Snowy Plover Protection Area (SPPA): Dog-walking restricted to on-leash only in the area which encompasses the shoreline and beach area west of the GGNRA boundary, between Stairwell 21 to Sloat Boulevard, including all tidelands and submerged lands to 1000 feet offshore.

(2) Notice of the overwintering season restrictions will be provided through the posting of signs at the site, on maps identifying the restricted areas on the park's official Web site and through maps made available at other places convenient to the public. This restriction will be in effect annually from July 1 until monitoring by the park determines that the species is no longer present.

Dated: September 7, 2007.
David M. Verhey,
Acting Assistant Secretary for Fish and Wildlife and Parks.

[FR Doc. E7-22654 Filed 11-19-07; 8:45 am]

BILLING CODE 4312-FN-P